DEPARTMENT OF ENERGY

Federal Energy Regulatory Commission

Notice of Application and Soliciting Comments, Motions To Intervene, and Protests

January 19, 2005.

Take notice that the following application has been filed with the Commission and is available for public inspection:

a. Application Type: Non-project use of project lands.

b. Project No: 739-017.

c. Date Filed: January 3, 2005.

d. Applicant: Appalachian Power Company.

e. Name of Project: Claytor Hydroelectric Project.

f. Location: The project is located on the New River in Pulaski County, Virginia.

g. Filed Pursuant to: Federal Power Act, 16 U.S.C. 791(a)-825(r).

h. Applicant Contact: Theresa P. Rogers, Hydro Generation Department, American Electric Power, P.O. Box 2021, Roanoke, Virginia 24022-2121, (540) 985-2441.

i. FERC Contact: Any questions on this notice should be addressed to Jean Potvin at (202) 502-8928, or by e-mail: jean.potvin@ferc.gov.

j. Deadline for Filing Comments and/or Motions: February 22, 2005.

All documents (original and eight copies) should be filed with: Ms. Magalie R. Salas, Secretary, Federal Energy Regulatory Commission, DHAC, PJ-12.1, 888 First Street, NE., Washington DC 20426. Please include the project number (739-017) on any comments or motions filed. Comments, protests and interventions may be filed electronically via the Internet in lieu of paper. See, 18 CFR 385.2001(a)(1)(iii) and the instructions on the Commission's Web site under the “e-Filing” link. The Commission strongly encourages electronic filings.

k. Description of Proposal: Appalachian Power Company, licensee for the Claytor Project, proposes to grant permission to Conrad Brothers Marina to modify and expand its marina facilities to include: (1) The removal of 18 enclosed boathouses; (2) the installation of 2 stationary, covered boat docks with 15 slips each; and (3) the installation of 6 floating docks slips with 6 slips each for a total addition of 30 covered, stationary boat slips and 36 floating slips at the marina. Existing facilities include a boat ramp, gasoline dispensing facility, one stationary dock with 11 covered slips and 5 existing floating docks with a total of 66 floating slips.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E5-347 Filed 1-28-05; 8:45 am]

BILLING CODE 6717-01-P